DEPARTMENT OF ENERGY

Federal Energy Regulatory Commission

[Docket No. CP01-405-000]

Kern River Gas Transmission Company; Notice of Application

July 27, 2001.

Take notice that on July 18, 2001, Kern River Gas Transmission Company (Kern River), 295 Chipeta Way, Salt Lake City, Utah 84158, filed in Docket No. CP01-405-000 an abbreviated application pursuant to Section 7(c) of the Natural Gas Act (NGA) and Part 157 of the Federal Energy Regulatory Commission's Regulations, for a certificate of public convenience and necessity authorizing Kern River to construct and operate: (1) Approximately 31.6 miles of 24-inch diameter delivery lateral pipeline in San Bernardino County, California (High Desert Lateral), extending from interconnects with the Kern/Mojave Common Facilities and the Pacific Gas & Electric Company (PG&E) system to the gas-fired electricity generating plant (HDPP) being built by High Desert Power Project, LLC (High Desert Power) near Victorville, California; (2) a 20-inch mainline tap on the Kern River/Mojave Pipeline Common Facilities near Kramer Junction and a receipt meter station at the start of the High Desert Lateral (Kern/Mojave Interconnect); (3) a bi-directional meter station and piping to interconnect with PG&E at the start of the High Desert Lateral, along with piping/valves to accommodate potential future installation of interconnect compression facilities (PG&E Interconnect); and (4) a delivery meter station at the terminus of the High Desert Lateral (High Desert Meter Station), all as more fully set forth in the application which is on file with the Commission and open to public inspection. Copies of this filing are on file with the Commission and are available for public inspection. This filing may also be viewed on the web at http://www.ferc.gov using the “RIMS” link, select “Docket #” and follow the instructions (call 202-208-2222 for assistance).

Kern River states that Victorville-Gas, LLC (Victorville-Gas), the fuel supplier for the HDPP, has executed a binding Precedent Agreement with Kern River obligating it to enter into a firm transportation service agreement for the full 282,000 Dth per day design capacity of the High Desert Lateral for a primary term of 21 years, with an evergreen provision, and subject to a negotiated rate.

Kern River states that it also is requesting approval of: (1) pro forma Rate Schedules KRF-L1 and KRI-L1 for firm and interruptible transportation service on the High Desert Lateral and other pro forma tariff provisions related to such service; (2) initial recourse rates for service under the new rate schedules; (3) the negotiated rate transportation service agreement with its initial firm shipper, Victorville-Gas; and (4) its related proposed accounting treatment; all as described more fully in the application.

Kern River states that High Desert Power and Victorville-Gas are both subsidiaries of Constellation Energy Group and that High Desert Power is constructing the HDPP, a 720 megawatt natural gas-fired, combined-cycle electric generating facility. Construction commenced in April, 2001; test operations currently are scheduled to begin in September, 2002; and commercial operation is scheduled to occur by July 1, 2003. Kern River states that the electricity generated at the HDPP will be sold to the California Department of Water Resources as a base-load resource to help serve growing power needs in Southern California. According to Kern River, High Desert Power initially will require up to approximately 141,000 Dth per day of natural gas to operate the HDPP.

Kern River states that the estimated cost of the proposed facilities is approximately $28.9 million and that the resulting recourse rate under the proposed KRF-L1 rate schedule will be $0.0583 per Dth of Maximum Daily Quantity.

Any questions regarding this application should be directed to Gary Kotter, Manager, Certificates, Kern River Gas Transmission Company, P.O. Box 58900, Salt Lake City, Utah 84158, at (801) 584-7117.

There are two ways to become involved in the Commission's review of this project. First, any person wishing to obtain legal status by becoming a party to the proceedings for this project should, on or before August 17, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-19271 Filed 8-1-01; 8:45 am]

BILLING CODE 6717-01-P